RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

Certification Regarding Rights to Unemployment Benefits; OMB 3220-0079

Under Section 4 of the Railroad Unemployment Insurance Act (RUIA), an employee who leaves work voluntarily is disqualified for unemployment benefits unless the employee left work for good cause and is not qualified for unemployment benefits under any other law. RRB Form UI-45, Claimant's Statement—Voluntary Leaving of Work, is used by the RRB to obtain additional information needed to investigate a claim for unemployment benefits when the claimant indicates on RRB Form UI-1, Application for Unemployment Benefits and Employment Service (OMB 3220-0022) that he has voluntarily left work. Completion of Form UI-45 is required to obtain or retain benefits. One response is received from each respondent.

RRB Form UI-45 is being revised to include language that asks a claimant, if they have been denied state unemployment benefits or unemployment benefits under any law other than the RUIA, to attach a copy of any letter received that denied them the benefits they applied for. Minor non-burden impacting editorial changes are also being proposed. The completion time for the UI-45 is estimated at 15 minutes per response. The RRB estimates that approximately 2,900 responses are received annually.

Additional Information or Comments: To request more information or to obtain a copy of the information collection justification, forms, and/or supporting material, please call the RRB Clearance Officer, at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 01-9290 Filed 4-13-01; 8:45 am]

BILLING CODE 7905-01-M